DEPARTMENT OF ENERGY

Federal Energy Regulatory Commission

[Docket No. RP02-363-002]

North Baja Pipeline, LLC; Notice of Compliance Filing

September 11, 2002.

Take notice that on September 9, 2002, North Baja Pipeline, LLC (NBP) tendered for filing as part of its FERC Gas Tariff, the tariff sheets listed on Appendix A to the filing, with an effective date of August 12, 2002.

NBP states that the filing is being filed to comply with requirements of the Commission's August 9, 2002 Order Accepting Tariff Sheets Subject to Conditions.

North Baja further states that a copy of this filing has been served on North Baja's jurisdictional customers and interested state regulatory agencies.

Any person desiring to protest said filing should file a protest with the Federal Energy Regulatory Commission, 888 First Street, NE, Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. The Commission strongly encourages electronic filings. See 18 CFR 385.2001(a)(1)(iii) and the instructions on the Commission's web site under the “e-Filing” link.

Magalie R. Salas,
Secretary.

[FR Doc. 02-23574 Filed 9-16-02; 8:45 am]

BILLING CODE 6717-01-P